DEPARTMENT OF HEALTH AND HUMAN SERVICES

Administration for Children and Families

Submission for OMB Review; Comment Request

Title: National Survey of Child and Adolescent Well-Being-Second Cohort (NSCAW II).

OMB No.: 0970-0202.

Description: The Department of Health and Human Services (HHS) intends to collect data on a new sample of children and families for the National Survey of Child and Adolescent Well-Being (NSCAW). The NSCAW was authorized under Section 427 of the Personal Responsibility and Work Opportunities Reconciliation Act of 1996. The original survey began in November 1999 with a national sample of 5,501 children, ages 0-14, who had been the subject of investigation by Child Protective Services during the baseline data collection period, which extended from November 1999 through April 2000. Direct assessments and interviews were conducted with the children themselves, their primary caregivers, their caseworkers, and, for school-aged children, their teachers; agency directors also were interviewed at baseline. Follow-up data collections were conducted 12 months, 18 months, and 36 months post-baseline, and a fifth data collection is currently under way.

The NSCAW is the only source of nationally representative, firsthand information about the functioning and well-being, service needs, and service utilization of children and families who come to the attention of the child welfare system. Information is collected about children's cognitive, social, emotional, behavioral, and adaptive functioning, as well as family and community factors that are likely to influence their functioning. Family service needs and service utilization also are addressed in the data collection.

The current data collection plan calls for selecting a new cohort of 5,700 children and families and repeating the data collection procedures used in the original study. Selection of a new cohort will allow the comparison of characteristics of children who are entering the child welfare system today with those who entered prior to the implementation of the Adoption and Safe Families Act and prior to the advent of the Child and Family Services Review process. The data collection will follow the same format as that used in previous rounds of data collection, and will employ, with only modest revisions, the same instruments that have been used in previous rounds. Currently, HHS intends to collect baseline data and one follow-up 18 months later, with future follow-up rounds contingent on funding availability. Data from NSCAW are made available to the research community though licensing arrangements from the National Data Archive on Child Abuse and Neglect at Cornell University.

Respondents: 5,700 children and their associated permanent or foster caregivers, caseworkers, and teachers; in addition, an administrator will be interviewed in each location from which children are sampled.

Annual Burden Estimates
Instrument | Number of respondents | Number of responses per respondent | Average burden hours per response | Total burden hours
Child Interview | 5,700 | 1 | 1.2 | 6,840
Permanent Caregiver Interview | 3,800 | 1 | 2.0 | 7,600
Foster Caregiver Interview | 1,990 | 1 | 1.5 | 2,985
Caseworker Interview | 5,700 | 1 | 1.0 | 5,700
Teacher Questionnaire | 3,000 | 1 | .75 | 2,250
Agency Questionnaire | 97 | 1 | 1.0 | 97
Estimated Total Annual Burden Hours: |  |  |  | 25,472

Additional Information

Copies of the proposed collection may be obtained by writing to the Administration for Children and Families, Office of Administration, Office of Information Services, 370 L'Enfant Promenade, SW., Washington, DC 20447, Attn: ACF Reports Clearance Officer. All requests should be identified by the title of the information collection. E-mail address: infocollection@acf.hhs.gov.

OMB Comment

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, FAX: 202-395-6974, Attn: Desk Officer for ACF.

Dated: December 17, 2007.
Brendan Kelly,
Reports Clearance Officer.

[FR Doc. 07-6143 Filed 12-21-07; 8:45 am]

BILLING CODE 4184-01-M